DEPARTMENT OF ENERGY

Meeting of the Fusion Energy Sciences Advisory Committee

AGENCY: Office of Science, Department of Energy.

ACTION: Notice of open meeting.

SUMMARY: This notice announces a meeting (teleconference) of the Fusion Energy Sciences Advisory Committee. The Federal Advisory Committee Act requires that public notice of these meetings be announced in the Federal Register.

DATES: Wednesday, November 15, 2017 3:00 p.m.—5:00 p.m. EDT

ADDRESSES: Teleconference: Remote attendance of the FESAC meeting will be possible via Zoom. Instructions will be posted on the FESAC Web site at: (http://science.energy.gov/fes/fesac/meetings/) prior to the meeting and can also be obtained by contacting Dr. Samuel J. Barish by email at (sam.barish@science.doe.gov) or by phone at (301) 903-2917).

FOR FURTHER INFORMATION CONTACT: Samuel J. Barish, Acting Designated Federal Officer, Office of Fusion Energy Sciences (FES); U.S. Department of Energy; 1000 Independence Avenue SW., Washington, DC 20585-1290; Telephone: (301) 903-2917.

SUPPLEMENTARY INFORMATION: Purpose of the meeting: To discuss a new charge to FESAC concerning the National Spherical Torus-Upgrade (NSTX-U) project.

Tentative Agenda Items:

• New Charge Concerning the NSTX-U Project

• Public Comment

• Adjourn

Public Participation: The meeting is open to the public. If you would like to file a written statement with the Committee, you may do so either before or after the meeting. If you would like to make an oral statement regarding any of the items on the agenda, you should contact Dr. Samuel J. Barish at 301-903-8584 (fax) or sam.barish@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 30 days on the Fusion Energy Sciences Advisory Committee Web site at: http://science.energy.gov/fes/fesac/.

Issued at Washington, DC, on October 19, 2017.
LaTanya R. Butler,
Deputy Committee Management Officer.

[FR Doc. 2017-23162 Filed 10-24-17; 8:45 am]

BILLING CODE 6450-01-P